DEPARTMENT OF THE INTERIOR

Bureau of Indian Affairs

[256A2100DD/AAKC001030/A0A501010.000000]

Notice of Public Meeting of the Advisory Board of Exceptional Children

AGENCY: Bureau of Indian Affairs, Interior.

ACTION: Notice of public meeting.

SUMMARY: The Bureau of Indian Education (BIE) is announcing that the Advisory Board for Exceptional Children (Advisory Board) will hold a two-day in-person and online meeting. The purpose of the meeting is to meet the mandates of the Individuals with Disabilities Education Act of 2004 (IDEA) for Indian children with disabilities.

DATES: The Advisory Board meeting will be held Thursday, April 24, 2025, from 8 a.m. to 4 p.m., mountain daylight time (MDT) and Friday, April 25, 2025, from 8 a.m. to 4 p.m., MDT.

ADDRESSES: The onsite meeting location will be held at the National Indian Programs Training Center (NIPTC), 1011 Indian School Rd., Room 234, Albuquerque, NM 87104. To attend virtually, participants may use this link to register: https://www.zoomgov.com/meeting/register/sukNoiX5RBSDkyapW0uDCg. Attendees register once and can attend one or both meeting events. After registering, you will receive a confirmation email containing information about joining the meeting.

FOR FURTHER INFORMATION CONTACT: Jennifer Davis, Designated Federal Officer, Bureau of Indian Education, 2600 N Central Ave., 12th Floor, Suite 250, Phoenix, AZ 85004, Jennifer.Davis@bie.edu, or mobile phone (202) 860-7845. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Federal Advisory Committee Act (5 U.S.C. 10), the BIE is announcing the Advisory Board will hold its next meeting in-person and online. The Advisory Board was established under the Individuals with Disabilities Act of 2004 (20 U.S.C. 1400 et seq.) to advise the Secretary of the Interior, through the Assistant Secretary—Indian Affairs, on the needs of Indian children with disabilities. All meetings, including virtual sessions, are open to the public in their entirety.

Meeting Agenda Items

The following agenda items will be for the April 24-25, 2025, meeting.

• BIE Central Office—Updates and Changes.

• The BIE's Special Education Program Updates.

• Southwestern Indian Polytechnic Institute: Address the challenges of preparing educators for schools serving significant numbers of Native American students in Bureau funded schools.

• Overview of Blindness and Visual Impairment Advisory Board Work Session: To address the next meeting logistics, discuss next steps, provide recommendations for future projects or meetings, wrap-up important decisions, discuss outstanding tasks, and share working folder with board members for future meetings.

• Public Comment Sessions will be opened any time throughout both meeting days to encourage public input.

○ Public comments can be provided verbally via webinar or in writing using the chat box.

○ Public comments can also be emailed to the DFO at Jennifer.Davis@bie.edu; or faxed to (602) 265-0293 Attention: Jennifer Davis, DFO; or mailed or hand delivered to the Bureau of Indian Education, Attention: Jennifer Davis, DFO, 2600 N Central Ave., 12th Floor, Suite 250, Phoenix, Arizona 85004. All comments received will be provided to the Advisory Board.

Request for Accommodations: Please make requests in advance for sign language interpreter services, assistive listening devices, language translation services, or other reasonable accommodations. Please contact the person listed in the section FOR FURTHER INFORMATION CONTACT at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Scott J. Davis,
Senior Advisor to the Secretary of the Interior, Exercising the delegated authority of the Assistant Secretary—Indian Affairs.

[FR Doc. 2025-05983 Filed 4-7-25; 8:45 am]

BILLING CODE 4337-15-P